DEPARTMENT OF THE TREASURY

Office of Foreign Assets Control

Unblocking of Blocked Persons Pursuant to the Foreign Narcotics Kingpin Designation Act

AGENCY: Office of Foreign Assets Control, Treasury.

ACTION: Notice.

SUMMARY: The Treasury Department's Office of Foreign Assets Control (“OFAC”) is publishing the names of two individuals whose property and interests in property have been unblocked pursuant to the Foreign Narcotics Kingpin Designation Act (“Kingpin Act”) (21 U.S.C. 1901-1908, 8 U.S.C. 1182).

DATES: The unblocking and removal from the list of Specially Designated Nationals and Blocked Persons of the individuals identified in this notice whose property and interests in property were blocked pending investigation pursuant to the Kingpin Act is effective on October 22, 2008.

FOR FURTHER INFORMATION CONTACT: Assistant Director, Compliance Outreach & Implementation, Office of Foreign Assets Control, Department of the Treasury, Washington, DC 20220, tel.: 202/622-2420.

SUPPLEMENTARY INFORMATION:

Electronic and Facsimile Availability

This document and additional information concerning OFAC are available from OFAC's web site (http://www.treas.gov/ofac) via facsimile through a 24-hour fax-on demand service, tel.: (202) 622-0077.

Background

The Kingpin Act became law on December 3, 1999. The Act provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property of interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

In order to carry out the purposes of the Kingpin Act, the Secretary of the Treasury is authorized by the Kingpin Act to block during the pendency of an investigation all property and interests in property of any foreign country or a national thereof that are subject to the jurisdiction of the United States.

On October 22, 2008, the Acting Director of OFAC removed from the list of Specially Designated Nationals and Blocked Persons the individuals listed below, whose property and interests in property were blocked pending investigation pursuant to the Kingpin Act.

The listing of the unblocked individuals follows:

1. LUNA RIVERA, Guadalupe Rocio (a.k.a. LUNA DE ARREOLA, Guadalupe Rocio; a.k.a. LUNA DE ARRIOLA, Guadalupe Rocio); Mexico; DOB 22 Sep 1970; POB Chihuahua, Chihuahua, Mexico; Citizen Mexico; Nationality Mexico; (INDIVIDUAL) [BPI-SDNTK].

2. MORALES ANDRADE, Carlos Enrique, c/o AERO CONTINENTE S.A., Lima, Peru; DOB 30 Aug 1954; LE 08779161 (Peru) (INDIVIDUAL) [BPI-SDNTK].

Dated: October 22, 2008.
Barbara C. Hammerle,
Acting Director, Office of Foreign Assets Control.

[FR Doc. E8-25595 Filed 10-27-08; 8:45 am]

BILLING CODE 4811-45-P